NUCLEAR REGULATORY COMMISSION

Notice of Availability of 2004-09; Regulatory Issue Summary for Status on Deferral of Active Regulation of Ground-Water Protection at In Situ Leach Uranium Extraction Facilities

AGENCY: Nuclear Regulatory Commission.

ACTION: Notice of availability.

SUMMARY: The U.S. Nuclear Regulatory Commission (NRC) has developed Regulatory Issue Summary (RIS) 2004-09, “Status on Deferral of Active Regulation of Ground-Water Protection at In Situ Leach (ISL) Uranium Extraction Facilities,” to inform interested parties of NRC's proposal to defer active ground-water regulation at ISL facilities to the U.S. Environmental Protection Agency (EPA)-authorized States. The NRC shares the regulatory oversight of ground-water at ISL facilities with the EPA and EPA-authorized States, under the Safe Drinking Water Act (SDWA). The RIS summarizes the process that the NRC plans to use to assure that EPA-authorized States' ground-water protection programs provides adequate protection of public health and safety, and the environment, equivalent to the NRC program. On February 23, 2004, the NRC issued RIS 2004-02, requesting interested parties to submit information, on a voluntary basis, regarding the proposed action. RIS 2004-09 summarizes the comments received from interested parties and supersedes RIS 2004-02 in its entirety. No specific action or written response is required to this RIS.

ADDRESSES: Electronic copies of this document are available for public inspection in the NRC Public Document Room or from the Publicly Available Records (PARS) component of NRC's document system (ADAMS). ADAMS is accessible from the NRC Web site at http://www.nrc.gov/reading-rm/adams.html (The Public Electronic Reading Room). RIS 2004-09 is under Adams Accession Number ML041540558. The document is also available for inspection or copying for a fee at the NRC's Public Document Room, 11555 Rockville Pike, Room O1-F21, Rockville, Maryland 20852. This guidance document is not copyrighted, and Commission approval is not required to reproduce it.

FOR FURTHER INFORMATION CONTACT: John Lusher, Office of Nuclear Material Safety and Safeguards, Division of Fuel Cycle Safety and Safeguards, Mail Stop T-8A33, U.S. Nuclear Regulatory Commission, Washington, DC 20555-0001, Telephone (301) 415-7694, or by e-mail to jhl@nrc.gov.

Dated at Rockville, Maryland this 14th day of June, 2004.
For the Nuclear Regulatory Commission.
Robert A. Nelson,
Chief, Uranium Processing Section, Fuel Cycle Facilities Branch, Division of Fuel Cycle Safety and Safeguards, Office of Nuclear Material Safety and Safeguards.

[FR Doc. 04-14297 Filed 6-23-04; 8:45 am]

BILLING CODE 7590-01-P